NATIONAL COMMISSION ON TERRORIST ATTACKS UPON THE UNITED STATES

Public Hearing

ACTION: Notice of public hearing.

SUMMARY: The National Commission on Terrorist Attacks Upon the United States (also known as the 9-11 Commission) will hold its eighth public hearing on March 23-24, 2004 in Washington, DC. The two-day investigative hearing will investigate the formulaiton and conduct of U.S. counterterrorism policy, with particular emphasis on the period from the August 1998 embassy bombings to September 11, 2001. Seating for the general public will be on a first-come, first-served basis. Representatives of the media must register in advance of the hearing by visiting the Commission's Web site, http://www.9-11 commission.gov. Members of the media must register by the close of business on March 19, 2004, by visiting the Commission's Web site, http://www.9-11 commission.gov. At the end of the second day, the Chair and Vice Chair will hold a briefing for accredited press registered with the Commission or Congressional galleries.

DATES: March 23-24, 2004, 9 a.m. to 5 p.m. Press availability to follow.

LOCATION: Hart Senate Office Building, Room 216, Washington, DC, 20510.

FOR FURTHER INFORMATION CONTACT: Al Felzenberg or Jonathan Stull at (202) 401-1627, (202) 236-4878 (cellular), or info@9-11 commission.gov.

SUPPLEMENTARY INFORMATION: Please refer to Pub. L. 107-306 (November 27, 2002), title VI (Legislation creating the Commission), and the Commission's Web site: http://www.9-11 commission.gov.

Dated: March 15, 2004.
Philip Zelikow,
Executive Director.

[FR Doc. 04-6266 Filed 3-19-04; 8:45 am]

BILLING CODE 8800-01-M